DEPARTMENT OF TRANSPORTATION

Federal Aviation Administration

[Docket No.: FAA-2024-1586]

Draft Advisory Circular for the Type Certification of Powered-Lift

AGENCY: Federal Aviation Administration (FAA), DOT.

ACTION: Notice of availability, request for comments.

SUMMARY: The FAA invites public comment on the agency's draft advisory circular for the type, production, and airworthiness certification of powered-lift.

DATES: Comments must be received on or before August 12, 2024.

ADDRESSES: Send comments identified with “Type Certification—Powered-lift” and docket number FAA-2024-1586 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: The FAA will post all comments received without change to www.regulations.gov, including any personal information the commenter provides. DOT's complete Privacy Act Statement can be found in the Federal Register published on April 11, 2000 (65 FR 19477-19478), as well as at DocketsInfo.dot.gov.

FOR FURTHER INFORMATION CONTACT: James Blyn, Product Policy Management: Airplanes, GA, Emerging Aircraft, and Rotorcraft AIR-62B, Policy and Standards Division, Aircraft Certification Service, Federal Aviation Administration, 10101 Hillwood Parkway, Fort Worth, Texas 76177; telephone (817) 222-5762; email james.blyn@faa.gov.

SUPPLEMENTARY INFORMATION:

Background

Title 14 of the Code of Federal Regulations (14 CFR) part 21 provides procedures for the type certification and airworthiness certification of special classes of aircraft. Special classes of aircraft include gliders and powered gliders, airships, powered-lift, and other kinds of aircraft, which would be eligible for a standard airworthiness certificate but for which no airworthiness standards have as yet been established as a separate part of 14 CFR chapter I, subchapter C. Airworthiness standards for these special classes of aircraft are the portions of the requirements in parts 23, 25, 27, 29, 31, 33, and 35 found by the FAA to be appropriate and applicable to the specific type design and any other airworthiness criteria found by the FAA to provide an equivalent level of safety to the existing standards.

Recent applications for the type certification of powered-lift have proposed passenger seating configurations of six or less, weighing 12,500 pounds or less, and utilizing battery-powered electric engines for propulsion. For each of these projects, the FAA has published the proposed airworthiness criteria, along with an explanation of its equivalency determination, in the Federal Register for public notice and comment. The FAA used its experience with those recent powered-lift applications to develop the criteria in the draft advisory circular “Type Certification—Powered-lift.” This draft advisory circular establishes a more efficient path in designating the type certification basis for certain powered-lift projects, as the FAA will not need to announce the criteria for each project in the Federal Register for notice and comment.

Comments Invited

The FAA invites the public to submit comments on the draft advisory circular, as specified in the ADDRESSES section. Commenters should include the subject line “Type Certification—Powered-lift” and the docket number FAA 2024-1586 on all comments submitted to the FAA. The most helpful comments will reference a specific portion of the draft document, explain the reason for any recommended change, and include supporting data. The FAA will consider all comments received on or before the closing date before issuing the final advisory circular. The FAA will also consider late-filed comments if it is possible to do so without incurring expense or delay.

You may examine the draft advisory circular on the agency's public website and in the docket as follows:

• At www.regulations.gov in Docket FAA-2024-1586.

• At www.faa.gov/aircraft/draft_docs/.

Issued in Washington, DC, on June 7, 2024.
Daniel J. Elgas,
Director, Policy and Standards Division, Aircraft Certification Service.

[FR Doc. 2024-12859 Filed 6-11-24; 8:45 am]

BILLING CODE 4910-13-P